DEPARTMENT OF HEALTH AND HUMAN SERVICES

Administration for Children and Families

[CFDA Number: 93.670]

Announcement of the Award of a Single-Source Program Expansion Supplement Grant to the American Bar Association Fund for Justice and Education, Washington, DC

AGENCY: Children's Bureau, Administration on Children, Youth and Families, ACF, HHS.

ACTION: Announcement of the award of a single-source program expansion supplement grant to the American Bar Association Fund for Justice and Education, Washington, DC, to provide expanded tailored capacity building services to state and tribal Court Improvement Programs and to enhance collaborative work with the Child Welfare Capacity Building Collaborative.

SUMMARY: The Administration for Children and Families (ACF), Administration on Children, Youth and Families (ACYF), Children's Bureau (CB) announces the award of a single-source program expansion supplement in the amount of $500,000 to the American Bar Association Fund for Justice and Education, Washington, DC, to provide expanded tailored capacity building services to state and tribal Court Improvement Programs and to enhance collaborative work with the other CB funded capacity building providers through the national Child Welfare Capacity Building Center for Courts (CBCC).

DATES: The period of support is from September 30, 2015 through September 29, 2016.

FOR FURTHER INFORMATION CONTACT: David Kelly, Children's Bureau, 330 C Street SW., Washington, DC 20201. Telephone: 202-205-8709; Email: david.kelly@acf.hhs.gov.

SUPPLEMENTARY INFORMATION: The Children's Bureau (CB) has awarded a single-source program expansion supplement to provide expanded tailored capacity building services to state and tribal Court Improvement Programs and to enhance collaborative work with the other CB-funded capacity building providers through the national Child Welfare Capacity Building Center for Courts (CBCC). The CBCC's ability to respond to federal priorities to improve safety, permanency, and well-being of children and youth who have experienced maltreatment, exposure to violence, and/or trauma will be enhanced by this augmented ability to increase tailored services provision to state and tribal Court Improvement Programs and enhance collaborative work with other CB capacity building providers. The grantee is the recipient of a cooperative agreement to administer the national CBCC. The grantee has been providing technical assistance services through a cooperative agreement since September 30, 2014.

Statutory Authority: Section 105 of Child Abuse Prevention and Treatment Act (CAPTA) as amended (42 U.S.C. 5106).

Christopher Beach,
Senior Grants Policy Specialist, Division of Grants Policy, Office of Administration.

[FR Doc. 2016-08545 Filed 4-13-16; 8:45 am]

BILLING CODE 4184-29-P